DEPARTMENT OF DEFENSE

Office of the Secretary

[Transmittal No. 23-85]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-85, Policy Justification, and Sensitivity of Technology.

Dated: December 16, 2024.
Stephanie J. Bost,
Alternate OSD Federal Register Liaison Officer, Department of Defense.

BILLING CODE 6001-FR-P

BILLING CODE 6001-FR-C

Transmittal No. 23-85

Notice of Proposed Issuance of Letter of Offer Pursuant to Section 36(b)(1) of the Arms Export Control Act, as amended

(i) Prospective Purchaser: Government of Greece

(ii) Total Estimated Value:

Major Defense Equipment * | $ .85 billion
Other | $1.10 billion
TOTAL | $1.95 billion

Funding Source: National Funds

(iii) Description and Quantity or Quantities of Articles or Services under Consideration for Purchase:

Major Defense Equipment (MDE):

Thirty-five (35) UH-60M Black Hawk helicopters

Eighty (80) T700-GE 701D Engines (70 installed, 10 spares)

Forty-four (44) AN/AAR-57 Common Missile Warning Systems (CMWS) (35 installed, 9 spares)

Eighty-five (85) H-764U Embedded Global Position Systems with Inertial Navigation (EGI) and country unique selective availability anti-spoofing module (SAASM) (or future replacement) (70 installed, 15 spares)

Eighty-five (85) AN/ARC-231A VHF/UHF/LOS SATCOM Radio Systems

Non-MDE:

Also included are AN/ARC-231 Receivers/Transmitters RT-1808A (or future replacement); VHF/UHF/LOS SATCOM radios; APR-39C(V)1/4 Radar Warning Receivers; AVR-2B Laser Detecting Sets; APX-123A Identification Friend or Foe (IFF) Transponders; ARC-220 High Frequency (HF) radios with KY-100M; VRC-100 Ground Stations; AN/PYQ-10 Simple Key Loaders (SKLs); KIV-77 Common IFF Applique Crypto Computers; COMSEC Encryption devices; AN/ARN-147(V) Very High Frequency Omni-Directional Range (VOR)/Instrument Landing System (ILS) Receiver Radios; AN/ARN-149(V) Low Frequency (LF)/Automatic Direction Finder (ADF) Radio Receivers; AN/ARN-153 Tactical Air Navigation System (TACAN) Receiver Transmitters; AN/APN-209 Radar Altimeters; AN/ARC-210 radios; EBC-406HM Emergency Locator Transmitters (ELTs); Encrypted Aircraft Wireless Intercommunications Systems (EAWIS); Improved Heads Up Displays (IHUD); Signal Data Converters for IHUD; Color Weather Radars; MX-10D E.O./IR with Laser Designators; E.O./IR Cabin Monitoring Systems; E.O./IR Digital Video Recorders; AN/ARC-201D RT-1478D radios; Engine Inlet Barrier Filters (EIBF); Ballistic Armor Protection Systems (BAPS); Internal Auxiliary Fuel Tank Systems (IAFTS); Fast Rope Insertion Extraction Systems (FRIES); External Rescue Hoists (ERH); Rescue Hoist Equipment Sets; Dual Patient Litter System (DPLS) Sets; Martin Baker Palletized Crew Chief/Gunner Seats with crashworthy floor structural modifications; External Stores Support System (ESSS); Integrated Tow Plates Production Assets; Universal Software Loading Kits; 60kVA Generator Kits; Instrument Panels; DF-500 Personal Location Systems; Trakkabeam Searchlights; External Gun Mount Systems; M-134 Mini Gun Systems; M-240 machine guns; 7.62mm Cartridges; 2.75″ Rockets; Flare IR Countermeasure M206; Decoy Flare CM M211; CTG Impulse BBU-35/B; CTG, 25.4mm, Decoy, Chaff, M839/RR170/Series; M255A2 MK-66 Night Reliability Indicator (NRI); Cartridge, Aircraft Fire Extinguisher; Cartridge, Impulse; Thruster Control Unit (TCU) -3/A; Cartridge, Aircraft; Black Hawk Aircrew Trainer (BAT); Black Hawk Maintenance Trainer (BHMT-M); Black Hawk Avionics Trainer; Maintenance Blended Reconfigurable Avionics Trainer (MBRAT); CAPT-E-Visual & Control System (CAPT-E VCS); training devices; helmets; transportation; organizational equipment; spare and repair parts; support equipment; tools and test equipment; technical data and publications; personnel training and training equipment; United States (U.S.) Government and contractor engineering, technical, and logistics support services; and other related elements of logistics and program support.

(iv) Military Department: Army (GR-B-XOZ)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: December 15, 2023

* As defined in Section 47(6) of the Arms Export Control Act.

POLICY JUSTIFICATION

Greece—UH-60M Black Hawk Helicopters

The Government of Greece has requested to buy thirty-five (35) UH-60M Black Hawk helicopters; eighty (80) T700-GE 701D engines (70 installed, 10 spares); forty-four (44) AN/AAR-57 Common Missile Warning Systems (CMWS) (35 installed, 9 spares); eighty-five (85) H-764U Embedded Global Position Systems with Inertial Navigation (EGI) and country unique selective availability anti-spoofing module (SAASM) (or future replacement) (70 installed, 15 spares); and eighty-five (85) AN/ARC-231A VHF/UHF/LOS SATCOM radio systems. Also included are AN/ARC-231 Receivers/Transmitters RT-1808A (or future replacement); VHF/UHF/LOS SATCOM radios; APR-39C(V)1/4 Radar Warning Receivers; AVR-2B Laser Detecting Sets; APX-123A Identification Friend or Foe (IFF) Transponders; ARC-220 High Frequency (HF) radios with KY-100M; VRC-100 Ground Stations; AN/PYQ-10 Simple Key Loaders (SKLs); KIV-77 Common IFF Applique Crypto Computers; COMSEC Encryption devices; AN/ARN-147(V) Very High Frequency Omni-Directional Range (VOR)/Instrument Landing System (ILS) Receiver Radios; AN/ARN-149(V) Low Frequency (LF)/Automatic Direction Finder (ADF) Radio Receivers; AN/ARN-153 Tactical Air Navigation System (TACAN) Receiver Transmitters; AN/APN-209 Radar Altimeters; AN/ARC-210 radios; EBC-406HM Emergency Locator Transmitters (ELTs); Encrypted Aircraft Wireless Intercommunications Systems (EAWIS); Improved Heads Up Displays (IHUD); Signal Data Converters for IHUD; Color Weather Radars; MX-10D E.O./IR with Laser Designators; E.O./IR Cabin Monitoring Systems; E.O./IR Digital Video Recorders; AN/ARC-201D RT-1478D radios; Engine Inlet Barrier Filters (EIBF); Ballistic Armor Protection Systems (BAPS); Internal Auxiliary Fuel Tank Systems (IAFTS); Fast Rope Insertion Extraction Systems (FRIES); External Rescue Hoists (ERH); Rescue Hoist Equipment Sets; Dual Patient Litter System (DPLS) Sets; Martin Baker Palletized Crew Chief/Gunner Seats with crashworthy floor structural modifications; External Stores Support System (ESSS); Integrated Tow Plates Production Assets; Universal Software Loading Kits; 60kVA Generator Kits; Instrument Panels; DF-500 Personal Location Systems; Trakkabeam Searchlights; External Gun Mount Systems; M-134 Mini Gun Systems; M-240 machine guns; 7.62mm Cartridges; 2.75″ Rockets; Flare IR Countermeasure M206; Decoy Flare CM M211; CTG Impulse BBU-35/B; CTG, 25.4mm, Decoy, Chaff, M839/RR170/Series; M255A2 MK-66 Night Reliability Indicator (NRI); Cartridge, Aircraft Fire Extinguisher; Cartridge, Impulse; Thruster Control Unit (TCU) -3/A; Cartridge, Aircraft; Black Hawk Aircrew Trainer (BAT); Black Hawk Maintenance Trainer (BHMT-M); Black Hawk Avionics Trainer; Maintenance Blended Reconfigurable Avionics Trainer (MBRAT); CAPT-E-Visual & Control System (CAPT-E VCS); training devices; helmets; transportation; organizational equipment; spare and repair parts; support equipment; tools and test equipment; technical data and publications; personnel training and training equipment; U.S. Government and contractor engineering, technical, and logistics support services; and other related elements of logistics and program support. The estimated total cost is $1.95 billion.

This proposed sale will support the foreign policy and national security objectives of the U.S by helping to improve the security of a NATO Ally, which is an important partner for political stability and economic progress in Europe.

The proposed sale will replace Greece's current multi-role helicopter fleet with a more reliable and proven system that will allow Greece to maintain the appropriate level of readiness to conduct combined operations. The UH-60M Black Hawk helicopter will improve the Hellenic Army's ability to deploy combat power to secure Greece's borders, deter actions against its interests, and, when required, respond with credible force. Greece will have no difficulty absorbing this equipment into its armed forces.

The proposed sale of this equipment and support will not alter the basic military balance in the region.

The principal contractor will be Sikorsky, a Lockheed Martin Company, Stratford, CT. There are no known offset agreements proposed in connection with this potential sale.

Implementation of this proposed sale will require approximately fifteen (15) U.S. Government and/or fifteen (15) contractor representatives to travel to Greece for an extended period for equipment de-processing/fielding, system checkout, training, and technical and logistics support.

There will be no adverse impact on U.S. defense readiness as a result of this proposed sale.

Transmittal No. 23-85

Notice of Proposed Issuance of Letter of Offer Pursuant to Section 36(b)(1) of the Arms Export Control Act

Annex

Item No. vii

(vii) Sensitivity of Technology:

1. The UH-60M aircraft is a medium lift four bladed aircraft which includes two (2) T-701D Engines. The aircraft has four (4) Multifunction Displays (MFD), which provides aircraft system, flight, mission, and communication management systems. The instrumentation panel includes four (4) Multifunction Displays (MFDs), two (2) Pilot and Co-Pilot Flight Director Panels, and two (2) Data Concentrator Units (DCUs). The Navigation System will have Embedded GPS/INS (EGIs), and two (2) Advanced Flight Control Computer Systems (AFCC), which provide 4 axis aircraft control:

a. The AN/ARC-201 Very High Frequency-Frequency Modulation (VHF-FM) Single Channel Ground and Airborne Radio System (SINCGARS) airborne radio is a reliable, field-proven voice and data communication system used with the UH-60. A country unique non-COMSEC export variant of this radio will be provided that meets Greece's requirements.

b. AN/ARC-231 RT-1808A VHF/UHF/LOS SATCOM Radios. The AN/ARC-231 is a software-definable radio for military aircraft that provides two-way, multi-mode voice and data communications over a 30 Hz to 512 MHz frequency range. It covers both line-of-sight Ultra High Frequency (UHF) and Very High Frequency (VHF) bands with AM, FM and SATCOM capabilities.

c. The AN/ARC-231A is a software-definable radio for military aircraft that provides two-way, multi-mode voice and data communications over a 30 Hz to 512 MHz frequency range. No designated exportable/non-COMSEC capable version planned. It supports both line-of-sight Ultra High Frequency (UHF) and Very High Frequency (VHF) bands with AM, FM and SATCOM capabilities and includes embedded frequency agile modes, Electronic Counter-Countermeasures (ECCM) anti-jam waveforms including Have quick and SINCGARS, Demand Assigned Multiple Access (DAMA), Integrated Waveform (IW). It provides simultaneous, real-time participation in tactical voice and data communications networks.

d. The AN/ARC-210 is a family of radios for military aircraft that provides two-way, multi-mode voice and data communications over a 30 to 512+MHz frequency range. It covers both Ultra High Frequency (UHF) and Very High Frequency (VHF) bands with AM, FM and SATCOM capabilities. The ARC-210 radio also includes embedded anti-jam waveforms, including have-quick and SINCGARS and other data link and secure communications features, providing total battlefield interoperability and high-performance capabilities in the transfer of data, voice and imagery.

e. The AN/ARC-220 High Frequency (HF) Airborne Communication System provides rotary-wing aircraft, with advanced voice and data capabilities for short-and long-distance communications. The system is software programmable and provides for embedded automatic Link establishment (ALE), serial tone data modem, text messaging, GPS position reporting and anti-jam (ECCM) functions.

f. The AN/APX-123A, Identification Friend or Foe (IFF) Transponder, is a space diversity transponder and is installed on various military platforms. When installed in conjunction with platform antennas and the Remote Control Unit (or other appropriate control unit), the transponder provides identification, altitude and surveillance reporting in response to interrogations from airborne, ground-based and/or surface interrogators.

g. The VRC-100 High Frequency (HF) Communication System is the ground station version of the AN/ARC-220 for use in Aviation Operation Centers. It provides for advanced voice and data capabilities for short-and long-distance communications. The system is software programmable and provides for embedded automatic Link establishment (ALE), serial tone data modem, text messaging, GPS position reporting and anti-jam (ECCM) functions. System purchased with all required mounts, amplifiers, antennas, power supplies, and accessories.

h. The AN/PYQ-10 Simple Key Loader (SKL) is a ruggedized, portable, hand-held fill device, for securely receiving, storing, and transferring data between compatible cryptographic and communications equipment.

i. The KIV-77 Identification Friend or Foe (IFF) Crypto Appliqué provides cryptographic and time-of-day services for a Combined Interrogator/Transponder (CIT) or individual interrogator or transponder Mark XIIA (Mode 4 and Mode 5) IFF system deployed to identify cooperative, friendly systems.

j. The KY-100M is a self-contained terminal including COMSEC that provides for secure voice and data communications in tactical airborne/ground environments. It is an integral part of the U.S Joint Services and Federal Law Enforcement Agency networks, and provides half-duplex, narrowband and wideband communications. Flexible interfaces ensure compatibility with a wide range of voice, data, radio and satellite equipment.

k. The AN/APR-39C(V)1/4 Radar Warning System detects radar-based rangefinders, target designators and beam rider systems targeting an aircraft or vehicle. The APR-39 is a detection component of the suite of countermeasures designed to increase survivability of current generation combat aircraft and specialized special operations aircraft against the threat posed by laser designated or guided weapons.

l. The AN/AVR-2B Laser Warning Receiver detects laser rangefinders, target designators and beam rider laser-aided systems targeting an aircraft or vehicle. The AVR-2B is a detection component of the suite of countermeasures designed to increase survivability of current generation combat aircraft and specialized special operations aircraft against the threat posed by laser designated or guided weapons.

m. The AAR-57 Common Missile Warning System (CMWS) is an integrated infrared (IR) countermeasures suite utilizing ultraviolet (UV) sensors to display accurate threat location and dispense decoys/countermeasures either automatically or under pilot/crew control to defeat incoming missile threats.

n. Embedded Global Positioning System (GPS)/Inertial Navigation System (INS) (EGI) provides GPS and INS capabilities to the aircraft. The EGI will include Selective Availability anti-spoofing Module (SAASM) security modules to be used for secure GPS PPS, if required.

o. Cartridge, 25.4mm, Decoy M839. The M1 (Z133) is a 25.4mm Decoy Chaff Cartridge. Z133 is a component in A965.

p. Flare Countermeasure M211 can defeat certain shoulder launched missiles.

2. The highest level of classification of defense articles, components, and services included in this potential sale is SECRET.

3. If a technologically advanced adversary were to obtain knowledge of the specific hardware and software elements, the information could be used to develop countermeasures which might reduce weapon system effectiveness or be used in the development of a system with similar or advanced capabilities.

4. A determination has been made that Greece can provide substantially the same degree of protection for the sensitive technology being released as the U.S. Government. This sale is necessary in furtherance of the U.S. foreign policy and national security objectives outlined in the Policy Justification.

5. All defense articles and services listed in this transmittal are authorized for release and export to the Government of Greece.

[FR Doc. 2024-30309 Filed 12-18-24; 8:45 am]

BILLING CODE 6001-FR-P